INTERNATIONAL TRADE COMMISSION

[USITC SE-01-013]

Sunshine Act Meeting

Agency Holding the Meeting: United States International Trade Commission.

Time and Date: April 16, 2001 at 11 a.m.

Place: Room 101, 500 E Street S.W., Washington, DC 20436, Telephone: (202) 205-2000.

Status: Open to the public.

Matters to be Considered: 1. Agenda for future meeting: none.

2. Minutes.

3. Ratification List.

4. Inv. No. 731-TA-922 (Preliminary)(Automotive Replacement Glass Windshields from China)—briefing and vote. (The Commission is currently scheduled to transmit its determination to the Secretary of Commerce on April 16, 2001; Commissioners' opinions are currently scheduled to be transmitted to the Secretary of Commerce on April 23, 2001.)

5. Outstanding action jackets: none.

In accordance with Commission policy, subject matter listed above, not disposed of at the scheduled meeting, may be carried over to the agenda of the following meeting.

Issued: April 4, 2001.
By order of the Commission:
Donna R. Koehnke,
Secretary.

[FR Doc. 01-8649 Filed 4-4-01; 1:14 pm]

BILLING CODE 7020-02-P